ENVIRONMENTAL PROTECTION AGENCY

[OPP-50873; FRL-6740-2]

Issuance of Experimental Use Permits

AGENCY: Environmental Protection Agency (EPA).

ACTION: Notice.

SUMMARY: EPA has granted experimental use permits (EUPs) to the following pesticide applicants and amended certain previously granted EUPs. An EUP permits use of a pesticide for experimental or research purposes only in accordance with the limitations in the permit.

FOR FURTHER INFORMATION CONTACT: By mail: Biopesticides and Pollution Prevention Division (7511C), Office of Pesticide Programs, Environmental Protection Agency, 1200 Pennsylvania Ave., NW., Washington, DC 20460.

In person or by telephone: Contact the designated person at the following address at the office location, telephone number, or e-mail address cited in each EUP: 1921 Jefferson Davis Hwy., Arlington, VA.

SUPPLEMENTARY INFORMATION:

I. General Information

A. Does this Action Apply to Me?

This action is directed to the public in general. Although this action may be of particular interest to those persons who conduct or sponsor research on pesticides, the Agency has not attempted to describe all the specific entities that may be affected by this action. If you have any questions regarding the information in this action, consult the designated contact person listed for the individual EUP.

B. How Can I Get Additional Information, Including Copies of this Document and Other Related Documents?

You may obtain electronic copies of this document from the EPA Internet Home Page at http://www.epa.gov/. On the Home Page select “Laws and Regulations,” “Regulations and Proposed Rules,” and then look up the entry for this document under the “Federal Register—Environmental Documents.” You can also go directly to the Federal Register listings at http://www.epa.gov/fedrgstr/.

II. EUPs

EPA has issued the following EUPs:

524-EUP-90, 524-EUP-92, and 524-EUP-93. Issuance. Monsanto Company, 700 Chesterfield Parkway North, St. Louis, MO 63198. The issuance of these EUPs allows the use of the plant-pesticides Bacillus thuringiensis Cry3Bb protein and the genetic material necessary for its production (vector ZMIR14L) in corn, Bacillus thuringiensis Cry3Bb protein and the genetic material necessary for its production (vector ZMIR12L) in corn, and Bacillus thuringiensis Cry3Bb protein and the genetic material necessary for its production (vector ZMIR13L) in corn, respectively . A notice of receipt for these EUPs was published in the Federal Register on December 8, 1999 (64 FR 68681) (FRL-6398-3). The EUPs were granted on April 6, 2000 and amended on May 15, 2000. 524-EUP-90 allows the planting of 1,343 acres of corn to test and evaluate genetically modified corn that has been developed to provide control of corn rootworm (Diabrotica spp.). The program is authorized only in the States of California, Colorado, Georgia, Hawaii, Illinois, Indiana, Iowa, Louisiana, Kansas, Michigan, Minnesota, Missouri, North Carolina, Nebraska, New York, North Dakota, Ohio, Oklahoma, Pennsylvania, Puerto Rico, South Dakota, Tennessee, Texas, Virginia, and Wisconsin. 524-EUP-92 allows the planting of 416 acres of corn to test and evaluate genetically modified corn that has been developed to provide control of corn rootworm (Diabrotica spp.). The program is authorized only in the States of California, Georgia, Hawaii, Illinois, Indiana, Iowa, Louisiana, Kansas, Michigan, Minnesota, Missouri, North Carolina, Nebraska, Oklahoma, Puerto Rico, South Dakota, Tennessee, Texas, Virginia, and Wisconsin. 524-EUP-93 allows the planting of 1,092 acres of corn to test and evaluate genetically modified corn that has been developed to provide control of corn rootworm (Diabrotica spp.). The program is authorized only in the States of California, Colorado, Georgia, Hawaii, Illinois, Indiana, Iowa, Louisiana, Kansas, Michigan, Minnesota, Missouri, North Carolina, Nebraska, New York, North Dakota, Ohio, Oklahoma, Pennsylvania, Puerto Rico, South Dakota, Tennessee, Texas, Virginia, and Wisconsin. These EUPs are effective from April 6, 2000 to April 31, 2001. These permits are issued with the limitation that all treated crops will be genetically contained and destroyed or used for research purposes only. Nine comments were received in reply to the Federal Register notice announcing receipt of these applications. Non-target insect risks, ecological effects of biopesticides, the need for a transparent and scientifically rigorous process for setting conditions for registration and use of independent expert advice, insect resistance management, contamination levels of neighboring crops, and the participation of land grant university corn IPM experts in the EUP were concerns expressed during the comment period. Health, environmental, and agricultural benefits of corn rootworm protected Bt corn were also noted.

Insect resistance management and non-target organism research will be part of the testing taking place under these EUPs. Researchers will be looking at field and population levels for a wide variety of soil and surface dwelling organisms, including all major coleopteran species that are found in corn systems. This will include work on insects like collembola, carabids, and other soil invertebrates like earthworms. Land grant university researchers are involved in many of these investigations. Testing is not permitted in the vicinity of endangered beetle habitats. Based on the information submitted, no significant or irreversible hazards from Cry3Bb corn to non-target organisms are anticipated for the duration of these limited acreage programs. These EUPs are crop destruct and genetically contained. (Mike Mendelsohn; Rm. 910W16, Crystal Mall #2; telephone number: (703) 308-8715; e-mail address: mendelsohn.mike@epa.gov).

68467-EUP-2. Extensions/Amendments. Mycogen Seeds c/o Dow AgroSciences LLC, 9330 Zionsville Road, Indianapolis, IN 46268. The amendments and extensions to this EUP allow the use of the plant-pesticide Bacillus thuringiensis Cry1F protein and the genetic material necessary for its production (plasmid insert PHI8999) in corn plants. Notice of the original issuance of the EUP was published in the Federal Register on May 5, 1999 (64 FR 24161) (FRL-6078-2). Notices of receipt for several amendments were published in the Federal Register on February 25, 2000 (65 FR 10081) (FRL-6492-1) and on March 3, 2000 (65 FR 11575) (FRL-6495-8). On May 11, 1999, the EUP was amended to modify the containment provisions. On June 18, 1999, the EUP was amended to switch acreage between different protocols in the program at the same sites. On January 27, 2000, the EUP was amended to permit the planting of 55 acres in Puerto Rico for agronomic observation and Liberty herbicide tolerance studies. On February 4, 2000, the EUP was amended to permit the planting of 5 acres in Hawaii for agronomic observation studies. Planting dates for all amendments mentioned above remained the same as permitted in the original EUP issuance and genetic isolation and crop destruct provisions still applied. On March 31, 2000, the EUP was extended/amended to allow the planting of 145 acres of field corn to evaluate the control of European corn borer, Southwestern corn borer, fall armyworm and black cutworm; to perform agronomic and herbicide tolerance observations; and to do breeding and observation. The program is authorized only in the States of Colorado, Georgia, Hawaii, Illinois, Indiana, Iowa, Kansas, Kentucky, Michigan, Minnesota, Mississippi, Missouri, North Carolina, Nebraska, North Dakota, Pennsylvania, Ohio, Puerto Rico, South Dakota, Tennessee, Texas, and Wisconsin. This amendment/extension of the EUP is effective from March 31, 2000 to March 31, 2001. This amendment/extension to the permit is issued with the limitation that all treated crops will be genetically contained and destroyed or used for research purposes only. On April 21, 2000, the EUP was extended/amended to allow the planting of an additional 947 acres of field corn to evaluate the control of European corn borer, Southwestern corn borer, fall armyworm and black cutworm; to perform agronomic and herbicide tolerance observations; to do hybrid production, breeding and observation; to study anthesis length; and to study insect resistance management. Additional acreage under this amendment/extension to the program is authorized only in the States of Hawaii, Iowa, Minnesota, and Nebraska. This amendment/extension of the EUP is effective from April 21, 2000 to March 31, 2001. This amendment/extension to the permit is issued with the limitation that all treated crops will be genetically contained and destroyed or used for research purposes only. Thirteen comments were received in reply to the Federal Register notice announcing receipt of this amendment/extension. Comments raised concerns about the labeling of food resulting from Bt corn, food safety, pollen shed/drift contamination of adjacent organic crops, the development of resistance to foliar Bt, the impact of testing on the Hawaiian environment, the impact on Bt corn on farmers in Puerto Rico, and the impact to non-target insects. Based on the information submitted, no significant or irreversible hazards from Cry1F corn to non-target organisms are anticipated for the duration of this limited acreage program. This EUP and the extension/amendments are crop destruct and genetically contained. (Mike Mendelsohn; Rm. 910W16, Crystal Mall #2; telephone number: (703) 308-8715; e-mail address: mendelsohn.mike@epa.gov).

Persons wishing to review these EUPs are referred to the designated contact person. Inquiries concerning these permits should be directed to the persons cited above. It is suggested that interested persons call before visiting the EPA office, so that the appropriate file may be made available for inspection purposes from 8 a.m. to 4 p.m., Monday through Friday, excluding legal holidays.

Authority: 7 U.S.C. 136.

List of Subjects

Environmental protection, Experimental use permits.

Dated: January 10, 2001.
Janet L. Andersen,
Director, Biopesticides and Pollution Prevention Division, Office of Pesticide Programs.

[FR Doc. 01-1351 Filed 1-16-01; 8:45 am]

BILLING CODE 6560-50-S